DEPARTMENT OF THE INTERIOR

Fish and Wildlife Service

50 CFR Part 17

[Docket No. FWS-R4-ES-2014-0065; 4500030114]

RIN 1018-BD52

Endangered and Threatened Wildlife and Plants; Designation of Critical Habitat for the Black Pinesnake

AGENCY: Fish and Wildlife Service, Interior.

ACTION: Proposed rule; revision, reopening of comment period, and announcement of public meetings.

SUMMARY: We, the U.S. Fish and Wildlife Service (Service), announce the reopening of the comment period on our March 11, 2015, proposed designation of critical habitat for the black pinesnake (Pituophis melanoleucus lodingi) under the Endangered Species Act of 1973, as amended (Act). We are reopening the comment period to accept comments on our proposal, including revisions to proposed Units 7 and 8 that are described in this document. As a result of these revisions, we are now proposing to designate a total of 338,379 acres (136,937 hectares) as critical habitat for the black pinesnake across eight units within portions of Forrest, George, Greene, Harrison, Jones, Marion, Perry, Stone, and Wayne Counties in Mississippi, and Clarke County in Alabama. This is a small increase in acreage from the area we proposed to designate in our March 11, 2015, proposed rule but constitutes less privately owned lands. In addition, we announce two public informational meetings on the proposed rule. We are reopening the comment period on our March 11, 2015, proposed rule to allow all interested parties the opportunity to comment on the revised proposed rule. Comments previously submitted need not be resubmitted, as they will be fully considered in preparation of the final rule.

DATES: The comment period for the proposed rule published March 11, 2015, at 80 FR 12846 is reopened.

Written comments: So that we can fully consider your comments in our final determination, submit them on or before November 13, 2018. Comments submitted electronically using the Federal eRulemaking Portal (see ADDRESSES, below) must be received by 11:59 p.m. Eastern Time on the closing date.

Public informational meetings: We will hold two public meetings, one from 6:00 p.m. to 7:30 p.m. on October 22, 2018, and a second from 6:00 p.m. to 7:30 p.m. on October 24, 2018.

ADDRESSES:

Document availability: You may obtain copies of the March 11, 2015, proposed rule and associated documents on the internet at http://www.regulations.gov under Docket No. FWS-R4-ES-2014-0065 or by mail from the Mississippi Ecological Services Field Office (see FOR FURTHER INFORMATION CONTACT).

Written comments: You may submit written comments by one of the following methods:

(1) Electronically: Go to the Federal eRulemaking Portal: http://www.regulations.gov. In the Search box, enter FWS-R4-ES-2014-0065, which is the docket number for this rulemaking. Then, click on the Search button. On the resulting page, in the Search panel on the left side of the screen, under the Document Type heading, click on the Proposed Rule box to locate this document. You may submit a comment by clicking on “Comment Now!”

(2) By hard copy: Submit your comments by U.S. mail or hand-delivery to: Public Comments Processing, Attn: FWS-R4-ES-2014-0065, U.S. Fish and Wildlife Service, MS: BPHC, 5275 Leesburg Pike, Falls Church, VA 22041-3803.

We request that you send comments only by the methods described above. We will post all comments on http://www.regulations.gov. This generally means that we will post any personal information you provide us (see Public Comments, below, for more information).

Public informational meetings: The public informational meetings will be held in the following locations:

• On October 22, 2018, at Pearl River Community College, Lowery A. Woodall Advanced Technology Center, 906 Sullivan Drive, Hattiesburg, MS 39401.

• On October 24, 2018, at Alabama Coastal Community College, Administration Building, Tombigbee Conference Room, 30755 Hwy. 43 South, Thomasville, AL 36784. See Public Informational Meetings, below, for more information.

FOR FURTHER INFORMATION CONTACT: Stephen Ricks, Field Supervisor, Mississippi Ecological Services Field Office, 6578 Dogwood View Parkway, Jackson, MS 39213; telephone 601-321-1122; or facsimile 601-965-4340. Persons who use a telecommunications device for the deaf (TDD) may call the Federal Relay Service at 800-877-8339.

SUPPLEMENTARY INFORMATION:

Public Comments

We will accept written comments and information during this reopened comment period on our proposed designation of critical habitat for the black pinesnake that was published in the Federal Register on March 11, 2015 (80 FR 12846), the revisions to the proposed designation that are described in this document, and our draft economic assessment (DEA) of the proposed designation. We will consider information and recommendations from all interested parties. We are particularly interested in comments concerning:

(1) The reasons why we should or should not designate habitat as “critical habitat” under section 4 of the Act, including whether there are threats to the species from human activity, the degree of which can be expected to increase due to the designation, and whether that increase in threat outweighs the benefit of designation such that the designation of critical habitat is not prudent.

(2) Specific information on:

(a) The amount and distribution of black pinesnake habitat;

(b) What areas occupied by the species at the time of listing (or are currently occupied) that contain features essential for the conservation of the species we should include in the designation and why;

(c) Special management considerations or protection that may be needed in critical habitat areas we are proposing, including managing for the potential effects of climate change; and

(d) What areas not occupied at the time of listing are essential for the conservation of the species and why.

(3) Land use designations and current or planned activities in the subject areas and their probable impacts on proposed critical habitat.

(4) How the patch size of proposed critical habitat was derived (i.e., how much acreage a viable population of black pinesnakes requires).

(5) Information on the projected and reasonably likely impacts of climate change on the black pinesnake and proposed critical habitat.

(6) Any probable economic, national security, or other relevant impacts of designating any area that may be included in the final designation; in particular, we seek information on any impacts on small entities or families, and the benefits of including or excluding areas that exhibit these impacts.

(7) Information on the extent to which the description of economic impacts in the DEA is a reasonable estimate of the likely economic impacts and is complete and accurate.

(8) The likelihood of adverse social reactions to the designation of critical habitat, as discussed in the associated documents of the DEA, and how the consequences of such reactions, if likely to occur, would relate to the conservation and regulatory benefits of the proposed critical habitat designation.

(9) Whether any areas we are proposing for critical habitat designation should be considered for exclusion under section 4(b)(2) of the Act, and whether the benefits of potentially excluding any specific area outweigh the benefits of including that area under section 4(b)(2) of the Act, particularly those areas described in this document.

(10) Whether we could improve or modify our approach to designating critical habitat in any way to provide for greater public participation and understanding, or to better accommodate public concerns and comments.

If you submitted comments or information on the March 11, 2015, proposed rule during the initial comment period from March 11, 2015, to May 11, 2015, please do not resubmit them. Any such comments are incorporated as part of the public record of this rulemaking proceeding, and we will fully consider them in the preparation of our final determination. Our final determination concerning critical habitat will take into consideration all written comments and any additional information we receive during both comment periods. The final decision may differ from this revised proposed rule, based on our review of all information received during this rulemaking proceeding.

You may submit your comments and materials concerning the proposed rule or DEA by one of the methods listed in ADDRESSES. We request that you send comments only by the methods described in ADDRESSES.

If you submit a comment via http://www.regulations.gov, your entire comment—including any personal identifying information—will be posted on the website. We will post all hardcopy comments on http://www.regulations.gov as well. If you submit a hardcopy comment that includes personal identifying information, you may request at the top of your document that we withhold this information from public review. However, we cannot guarantee that we will be able to do so.

Comments and materials we receive, as well as supporting documentation we used in preparing the proposed rule and DEA, will be available for public inspection on http://www.regulations.gov at Docket No. FWS-R4-ES-2014-0065, or by appointment, during normal business hours, at the U.S. Fish and Wildlife Service, Mississippi Ecological Services Field Office (see FOR FURTHER INFORMATION CONTACT). You may obtain copies of the proposed rule and the DEA on the internet at http://www.regulations.gov at Docket No. FWS-R4-ES-2014-0065, or by mail from the Mississippi Ecological Services Field Office (see FOR FURTHER INFORMATION CONTACT).

Public Informational Meetings

We will hold two public informational meetings on the dates and times shown in DATES at the addresses shown in ADDRESSES. People needing reasonable accommodations in order to attend and participate in the public informational meetings should contact Stephen Ricks, Mississippi Ecological Services Field Office, at (601) 321-1122, as soon as possible. In order to allow sufficient time to process requests, please call no later than 1 week before the meeting date (see DATES).

Background

It is our intent to discuss in this document only those topics directly relevant to the designation of critical habitat for black pinesnake. For more information on previous Federal actions concerning the black pinesnake, or information regarding its biology, status, distribution, and habitat, refer to the proposed designation of critical habitat published in the Federal Register on March 11, 2015 (80 FR 12846), and the October 6, 2015, final listing rule (80 FR 60468), both of which are available online at http://www.regulations.gov (at Docket Nos. FWS-R4-ES-2014-0065 and FWS-R4-ES-2014-0046) or from the Mississippi Ecological Services Field Office (see FOR FURTHER INFORMATION CONTACT).

In our March 11, 2015, proposed rule, we proposed to designate critical habitat for the black pinesnake in eight units encompassing approximately 338,100 acres (136,824 hectares) in Forrest, George, Greene, Harrison, Jones, Marion, Perry, Stone, and Wayne Counties, Mississippi, and Clarke County, Alabama. In addition, we announced the availability of a DEA of the proposed critical habitat designation. We accepted comments on the proposal and DEA for 60 days, ending May 11, 2015. Based on information we received during the public comment period, we have decided to reopen the comment period to allow the public additional time to submit comments on the proposed critical habitat designation and to hold two informational meetings.

New Information and Revisions to Previously Proposed Critical Habitat

In this document, we propose certain revisions to the critical habitat designation we proposed for the black pinesnake on March 11, 2015. Specifically, we propose to revise the name of Unit 7 to reflect the removal of all lands by the landowner from the State Wildlife Management Area (WMA). As a result of the removal, the name of the proposed unit is changed from Scotch WMA to Jones Branch. We also propose to revise the boundaries of Unit 8 in Clarke County, Alabama, resulting in fewer acres on private land and more acres on State-owned land, with a net increase in acreage. An index map of the revised proposed critical habitat area (338,379 acres (136,937 hectares)) is provided in the Proposed Regulation Promulgation section, below.

Unit 7: Jones Branch (formerly Scotch WMA), Clarke County, Alabama

In September 2015, we received notice of a recent observation of a black pinesnake in proposed Unit 7 within the Scotch WMA in Clarke County, Alabama. A black pinesnake was captured during the course of a turkey trapping study and was positively verified by Service and State herpetologists. Therefore, within proposed Unit 7, there are now 5 records for black pinesnakes, one observed as recently as July 2015, and all records are in close proximity to one another and part of the same breeding population.

In June 2016, Scotch Land Management Company, LCC, which manages most of the lands in proposed Unit 7, announced the withdrawal of its lands from the Alabama Department of Conservation and Natural Resources' WMA program. As a result, no lands within proposed Unit 7 are within the WMA, and therefore, the name of the unit is being changed from Scotch WMA to Jones Branch. Ownership of the lands within proposed Unit 7 has not changed; it remains entirely privately owned. In addition, the boundaries and acreage of proposed Unit 7 are the same as what we proposed for this unit on March 11, 2015.

Unit 8: Fred T. Stimpson WMA, Clarke County, Alabama

During a re-examination of all the proposed critical habitat units following the close of the proposed rule's comment period on May 11, 2015, we determined that some of the best black pinesnake habitat, located on the southern end of the Stimpson WMA, had not been incorporated into proposed Unit 8, and that other land, located on the northern end of proposed Unit 8, had been included in error. This re-assessment used updated aerial imagery, and wetlands, elevation, soils, and land cover overlays, to redefine the best available, most suitable, contiguous forested habitat surrounding the known pinesnake records at that site. Accordingly, we are shifting proposed Unit 8 to the south; among other things, this results in more acreage overlapping with the WMA, as well as a slight increase in the size of the unit. The total acreage in revised proposed Unit 8 is now 5,940 acres (2,404 hectares), an increase of 279 acres (113 hectares). The State of Alabama owns 3,789 acres (1,533 hectares; 64 percent) of Unit 8, and 2,151 acres (870 hectares; 36 percent) are privately owned. The newly added land in revised proposed Unit 8 is of the same habitat type, and contiguous with, those lands analyzed in the March 11, 2015, proposed rule; therefore, the determination that these additional lands meet the definition of critical habitat is the same as for the original proposed Unit 8. As with the original lands within proposed Unit 8, the additional lands are occupied; contain all of the physical or biological features of the black pinesnake to support life-history functions essential to the conservation of the subspecies; and may require special management and protection from threats as outlined in the March 11, 2015, critical habitat proposal.

Authors

The primary authors of this document are the staff members of the Mississippi Ecological Services Field Office, Southeast Region, U.S. Fish and Wildlife Service.

List of Subjects in 50 CFR Part 17

Endangered and threatened species, Exports, Imports, Reporting and recordkeeping requirements, Transportation.

Proposed Regulation Promulgation

Accordingly, we propose to further amend part 17, subchapter B of chapter I, title 50 of the Code of Federal Regulations, as proposed to be amended at 80 FR 12846 (March 11, 2015) as set forth below:

PART 17—ENDANGERED AND THREATENED WILDLIFE AND PLANTS

1. The authority citation for part 17 continues to read as follows:

Authority: 16 U.S.C. 1361-1407; 1531-1544; and 4201-4245, unless otherwise noted.

2. Amend § 17.95 by revising paragraphs (c)(5), (12), and (13) to read as follows:

§ 17.95 Critical habitat—fish and wildlife.

* * * * *

(c) Reptiles.

* * * * *

Black Pinesnake (Pituophis melanoleucus lodingi)

* * * * *

(5) Note: Index map follows:

BILLING CODE 4333-15-P

* * * * *

(12) Unit 7: Jones Branch—Clarke County, Alabama.

(i) This unit is bordered by Salitpa Creek to the south, Tallahatta Creek to the north, and Harris Creek to the west. It is located approximately 2.7 mi (4.3 km) southeast of Campbell. Unit 7 is located 1.1 mi (1.8 km) north of the intersection of Old Mill Pond Road and Reedy Branch Road.

(ii) Map of Unit 7 (Jones Branch) follows:

(13) Unit 8: Fred T. Stimpson Wildlife Management Area (WMA)—Clarke County, Alabama.

(i) This unit is located between Sand Hill Creek and the Tombigbee River, is approximately 1 mi (1.6 km) north of Carlton, and is 1.5 mi (2.4 km) south of the intersection of County Road 15 and Christian Vall Road. Most of this unit is on the Fred T. Stimpson WMA.

(ii) Map of Unit 8 (Fred T. Stimpson WMA) follows:

* * * * *

Dated: August 14, 2018.
James W. Kurth,
Deputy Director, U.S. Fish and Wildlife Service, Exercising the Authority of the Director, U.S. Fish and Wildlife Service.

[FR Doc. 2018-22013 Filed 10-10-18; 8:45 am]

BILLING CODE 4333-15-C